DEPARTMENT OF COMMERCE

National Oceanic and Atmospheric Administration

50 CFR Part 665

RIN 0648-XD998

Pacific Island Pelagic Fisheries; 2015 U.S. Territorial Longline Bigeye Tuna Catch Limits for Guam

AGENCY: National Marine Fisheries Service (NMFS), National Oceanic and Atmospheric Administration (NOAA), Commerce.

ACTION: Announcement of a valid specified fishing agreement.

SUMMARY: NMFS announces a valid specified fishing agreement that allocates 1,000 mt of the 2015 Guam bigeye tuna limit to U.S. longline fishing vessels. The agreement supports the long-term sustainability of fishery resources of the U.S. Pacific Islands.

DATES: November 27, 2015.

ADDRESSES: Copies of the environmental assessment and finding of no significant impact for this action, identified by NOAA-NMFS-2015-0077, are available from www.regulations.gov, or from Michael D. Tosatto, Regional Administrator, NMFS Pacific Islands Region (PIR), 1845 Wasp Blvd., Bldg. 176, Honolulu, HI 96818.

Copies of the fishery ecosystem plans are available from the Western Pacific Fishery Management Council (Council), 1164 Bishop St., Suite 1400, Honolulu, HI 96813, tel 808-522-8220, fax 808-522-8226, or www.wpcouncil.org.

FOR FURTHER INFORMATION CONTACT: Jarad Makaiau, NMFS PIRO Sustainable Fisheries, 808-725-5176.

SUPPLEMENTARY INFORMATION: In a final rule published on November 6, 2015, NMFS specified a 2015 limit of 2,000 metric tons (mt) of longline-caught bigeye tuna for Guam (80 FR 68778). Of the 2,000 mt, NMFS allows the territory to allocate up to 1,000 mt to U.S. longline fishing vessels identified in a specified fishing agreement that meets established criteria.

On November 25, 2015, NMFS received from the Western Pacific Fishery Management Council a specified fishing agreement between the Government of Guam and Quota Management, Inc. (QMI). In the transmittal memorandum, the Council's Executive Director noted that the specified fishing agreement was consistent with the criteria set forth in 50 CFR 665.819(c)(1). NMFS reviewed the agreement and determined that it is consistent with the Fishery Ecosystem Plan for Pelagic Fisheries of the Western Pacific Region, the Magnuson-Stevens Fishery Conservation and Management Act, implementing regulations, and other applicable laws.

In accordance with 50 CFR 300.224(d) and 50 CFR 665.819(c)(9), vessels identified in the agreement may retain and land bigeye tuna in the western and central Pacific Ocean under the Guam limit.

NMFS began attributing bigeye tuna caught by vessels identified in the agreement to Guam starting on November 25, 2015. If and when NMFS determines the fishery will reach the 1,000 mt attribution limit, we will restrict harvest of bigeye tuna caught by vessels identified in the agreement.

Authority: 16 U.S.C. 1801 et seq.

Dated: November 27, 2015.
Emily H. Menashes,
Acting Director, Office of Sustainable Fisheries, National Marine Fisheries Service.

[FR Doc. 2015-30544 Filed 11-27-15; 4:15 pm]

BILLING CODE 3510-22-P